DEPARTMENT OF TRANSPORTATION

Federal Aviation Administration

Public Notice for Waiver of Aeronautical Land-Use Assurance; Dane County Regional Airport, Madison, WI

AGENCY: Federal Aviation Administration, DOT.

ACTION: Notice of intent of waiver with respect to land.

SUMMARY: The Federal Aviation Administration (FAA) is considering a proposal to authorize the release of 10.73 acres of the airport property. The Wisconsin Department of Transportation (WisDOT) is seeking an easement on the east edge of the airport to construct a local connector road (Bartillon Drive extension) between USH 51 and Portage Road in Madison. WisDOT will also construct a sidewalk along the west side of Portage Road from Rieder Road to Melody Lane.

The acreage being released is not needed for aeronautical use as currently identified on the Airport Layout Plan. The acreage comprising this parcel was originally acquired under Grant No. ADAP 10 in 1980. The County of Dane (Wisconsin), as airport owner, has concluded that the subject airport land is not needed for expansion of airport facilities. There are no impacts to the airport by allowing the airport to dispose of the property. The airport will receive the appraised fair market value of the land. Approval does not constitute a commitment by the FAA to financially assist in the disposal of the subject airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before November 10, 2008.

ADDRESSES: Ms. Sandra E. DePottey, Program Manager, Federal Aviation Administration, Airports District Office, 6020 28th Avenue South, Room 102, Minneapolis, MN 55450-2706. Telephone Number (612) 713-4350/FAX Number (612) 713-4364. Documents reflecting this FAA action may be reviewed at this same location or at the Dane County Regional Airport, 4000 International Lane, Madison, WI 53704.

FOR FURTHER INFORMATION CONTACT: Ms. Sandra E. DePottey, Program Manager, Federal Aviation Administration, Airports District Office, 6020 28th Avenue South, Room 102, Minneapolis, MN 55450-2706. Telephone number (612) 713-4350/FAX number (612) 713-4364. Documents reflecting this FAA action may be reviewed at this same location or at the Dane County Regional Airport, 4000 International Lane, Madison, WI 53704.

SUPPLEMENTARY INFORMATION: Following is a legal description of the subject airport property to be released at Dane County Regional Airport in Madison, Wisconsin and described as follows:

A parcel of land located in Northwest 1/4 and the Northeast 1/4 of the Northwest 1/4 of Section 28, T8N, R10E, Town of Burke and the City of Madison, Dane County, WI.

Said parcel subject to all easements, restrictions, and reservations of record.

Issued in Minneapolis, MN, on August 5, 2008.
Robert A. Huber,
Manager, Minneapolis Airports District Office, FAA, Great Lakes Region.

[FR Doc. E8-24108 Filed 10-9-08; 8:45 am]

BILLING CODE 4910-13-P